GENERAL SERVICES ADMINISTRATION

Maximum Per Diem Rates for the Continental United States (CONUS)

AGENCY: Office of Governmentwide Policy, General Services Administration (GSA).

ACTION: Correction to Per Diem Bulletin 05-1, Fiscal Year (FY) 2005 continental United States (CONUS) per diem rates.

SUMMARY: An analysis of lodging data reveals that the FY 2005 maximum per diem rates for locations within the continental United States (CONUS) should be updated to provide for the reimbursement of Federal employees' expenses covered by per diem. Per Diem Bulletin 05-1 increases/decreases the maximum lodging amounts in existing per diem localities, increases the standard CONUS lodging amount from $55 to $60 (which results in the deletion of several existing per diem localities), and adds new per diem localities due to requests by Federal agencies. The per diems prescribed in Bulletin 05-1 were posted at http://www.gsa.gov/perdiem on August 31, 2004. Several corrections have been made to the per diems as they appeared in that bulletin on that date.

DATES: This notice is effective October 1, 2004, and applies for travel performed on or after October 1, 2004.

FOR FURTHER INFORMATION CONTACT: For clarification of content, contact Adlore Chaudier, Office of Governmentwide Policy, Travel Management Policy, at (202) 501-3859. Please cite notice of correction to Per Diem Bulletin 05-1.

SUPPLEMENTARY INFORMATION:

A. Background

A notice appeared in the Federal Register (69 FR 53071) on August 31, 2004, announcing Per Diem Bulletin 05-1. Several per diem rates and location designations prescribed in that document have been corrected and include these destinations: Atlanta, GA; Boston/Cambridge, MA; Bridgeport/Danbury, CT; Cambridge/St. Michaels, MD; Columbia, MD; Denver and Jefferson County, CO; Fort Worth/Arlington, TX; Frederick County, MD; Grapevine, TX; Gulf Shores, AL; Gwinnett County, GA; Kalamazoo/Battle Creek, MI (Kalamazoo and Calhoun Counties); Key West, FL; Manhattan, Brooklyn, The Bronx, Queens, Staten Island, NY; Middlesex County, MA; Minneapolis/St. Paul, MN; Nashville, TN; Orlando, FL; Philadelphia, PA; Reno/Sparks, NV; St. Louis, MO; Traverse City, MI; Washington, D.C. The corrected rates are posted at http://www.gsa.gov/perdiem.

B. Change in standard procedure

GSA issues/publishes the CONUS per diem rates, formerly published in Appendix A to 41 CFR chapter 301, solely on the internet at http://www.gsa.gov/perdiem. This process, implemented in 2003, ensures more timely increases or decreases in per diem rates established by GSA for Federal employees on official travel within CONUS. Notices published periodically in the Federal Register, such as this one, now constitute the only notification of revisions in CONUS per diem rates to agencies.

Dated: October 1, 2004.
Becky Rhodes,
Deputy Associate Administrator, Office of Transportation and Personal Property.

[FR Doc. 04-22539 Filed 10-6-04; 8:45 am]

BILLING CODE 6820-14-S